NUCLEAR REGULATORY COMMISSION

10 CFR Parts 51 and 54

[NRC-2008-0608]

RIN 3150-AI42

Preparation of Environmental Reports for Nuclear Power Plant License Renewal Applications

AGENCY: Nuclear Regulatory Commission.

ACTION: Regulatory guide; issuance.

SUMMARY: The U.S. Nuclear Regulatory Commission (NRC) is issuing Revision 1 to Regulatory Guide (RG) 4.2, Supplement 1 (RG 4.2S1), “Preparation of Environmental Reports for Nuclear Power Plant License Renewal Applications.” This regulatory guide provides guidance to applicants in the preparation of environmental reports that are submitted with the application for the renewal of a nuclear power plant operating license. Applicants should use this regulatory guide when preparing an environmental report for license renewal to ensure that the information they submit to the NRC is complete and facilitates the NRC staff's review.

DATES: June 20, 2013.

ADDRESSES: Please refer to Docket ID NRC-2008-0608 when contacting the NRC about the availability of information regarding this document. You may access information related to this document, which the NRC possesses and is publicly available, using any of the following methods:

• Federal Rulemaking Web site: Go to http://www.regulations.gov and search for Docket ID NRC-2008-0608. Address questions about NRC dockets to Carol Gallagher; telephone: 301-492-3668; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Revision 1 of Regulatory Guide 4.2, Supplement 1, is available in ADAMS under Accession No. ML13067A354.

• NRC's PDR: You may examine and purchase copies of public documents at the NRC's Public Document Room O1-F21, One White Flint North, 11555 Rockville Pike, Rockville, Maryland 20852.

Regulatory guides are not copyrighted, and NRC approval is not required to reproduce them.

FOR FURTHER INFORMATION CONTACT: Emmanuel Sayoc, telephone: 301-415-1924, email: Emmanuel.Sayoc@nrc.gov, or Edward O'Donnell, telephone: 301-251-7455, email: Edward.Odonnell@nrc.gov. U.S. Nuclear Regulatory Commission, Washington, DC 20555-0001.

SUPPLEMENTARY INFORMATION:

I. Introduction

The NRC is issuing a revision to an existing regulatory guide in the NRC's “Regulatory Guide” series. This series was developed to describe and make available to the public information such as methods that are acceptable to the NRC staff for implementing specific parts of the agency's regulations, techniques that the staff uses in evaluating specific problems or postulated accidents, and data that the staff needs in its review of applications for permits and licenses.

The NRC is publishing a final rule, “Revisions to Environmental Review for Renewal of Nuclear Power Plant Operating Licenses” (RIN 3150-AI42; NRC-2008-0608), in the Rules and Regulations section of this issue of the Federal Register that amends its environmental protection regulations by updating the Commission's 1996 findings on the environmental impacts of renewing the operating license of a nuclear power plant. The NRC complies with the National Environmental Policy Act (NEPA) through the implementation of its regulations in Part 51 of Title 10 of the Code of Federal Regulations (10 CFR) (see Table B-1 in Appendix B to Subpart A of 10 CFR part 51). The environmental reports submitted by license renewal applicants are part of the process set forth in 10 CFR part 51. The final rule incorporates lessons learned and knowledge gained from license renewal environmental reviews conducted by the NRC since 1996. Specifically, the final rule amends Table B-1 by redefining the number and scope of the environmental impact issues that must be considered by the NRC during license renewal environmental reviews and amends other related regulations in 10 CFR part 51 (i.e., 10 CFR 51.53, 51.71, and 51.95). For renewal of nuclear power plant operating licenses, RG 4.2S1, Revision 1, provides guidance to applicants in the preparation of environmental reports.

Also in the Rules and Regulations section of this issue of the Federal Register, the NRC is publishing Revision 1 to NUREG-1437, “Generic Environmental Impact Statement for License Renewal of Nuclear Plants” (ADAMS Accession Nos. ML13106A241, ML13106A242, and ML13106A244); and Revision 1 to NUREG-1555, “Standard Review Plans for Environmental Reviews for Nuclear Power Plants, Supplement 1: Operating License Renewal” (ADAMS Accession No. ML13106A246).

II. Further Information

The NRC made the draft of Revision 1 of RG 4.2S1 available for public comment as Draft Guide (DG)-4015 on July 31, 2009 (74 FR 38238), with a 75-day public comment period. The NRC extended the public comment period for another 90 days, with a closing date of January 12, 2010 (74 FR 51522; October 7, 2009). The NRC received 3 public comments from the Nuclear Energy Institute, New York State Office of the Attorney General, and the United States Environmental Protection Agency. The NRC staff's response to public comments is available in ADAMS under Accession No. ML13067A355.

III. Congressional Review Act

This regulatory guide is a rule as designated in the Congressional Review Act (5 U.S.C. 801-808). However, the Office of Management and Budget has not found it to be a major rule as designated in the Congressional Review Act.

IV. Backfitting and Issue Finality

This regulatory guide provides the NRC's first guidance on compliance with the revised provisions of 10 CFR part 51. The statement of considerations for the final rule that amended 10 CFR part 51 explains that issuance of the final rule does not constitute “backfitting” as defined in 10 CFR 50.109(a)(1) of the Backfit Rule and is not otherwise inconsistent with the applicable issue finality provisions in 10 CFR part 52 (see Section XIX, “Backfitting and Issue Finality,” of the final rule). The first issuance of guidance on a new rule does not constitute backfitting, inasmuch as the guidance must be consistent with the regulatory requirements in the new rule and the backfitting considerations applicable to the new rule must, as a matter of logic, also be applicable to this newly-issued guidance. Therefore, issuance of this new regulatory guide does not constitute issuance of “new” guidance within the meaning of the definition of “backfitting” in 10 CFR 50.109(a)(1). Further, issuance of this guidance, like issuance of the final rule itself, does not constitute “backfitting” as defined in 10 CFR 50.109(a)(1) of the Backfit Rule nor does the issuance of this new regulatory guide, by itself, constitute an action inconsistent with any of the issue finality provisions in 10 CFR part 52.

Dated at Rockville, Maryland, this 23rd day of April, 2013.
For the Nuclear Regulatory Commission.
Thomas H. Boyce,
Chief, Regulatory Guide Development Branch, Division of Engineering, Office of Nuclear Regulatory Research.

[FR Doc. 2013-14313 Filed 6-19-13; 8:45 am]

BILLING CODE 7590-01-P